DEPARTMENT OF DEFENSE

National Security Agency/Central Security Service

Privacy Act of 1974; System of Records

AGENCY: National Security Agency/Central Security Service.

ACTION: Notice to add a system of records; GNSA21 NSA/CSS Morale, Welfare, and Recreation (MWR) and Non-appropriated Fund Instrumentality (NAFI) Files.

SUMMARY: The National Security Agency/Central Security Service proposes to add a system of records notice to its existing inventory of record systems subject to the Privacy Act of 1974, (5 U.S.C. 552a), as amended.

DATES: This proposed action would be effective without further notice on August 5, 2005 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on June 27, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 29, 2005.
Jeanette Owings-Ballard,
OSD Federal Register Liaison Officer, Department of Defense.

GNSA21

System Name:

NSA/CSS Morale, Welfare, and Recreation (MWR) and Non-appropriated Fund Instrumentality (NAFI) Files.

System Location:

National Security Agency/Central Security Service, Office of Policy, 9800 Savage Road, Suite 6248, Ft. George G. Meade, MD 20755-6248.

Categories of individuals covered by the system:

Civilian DoD employees, non-appropriated fund instrumentality employees, employees of other Federal agencies or military departments, contractor employees, and dependents of these individuals, and personnel authorized to use DoD-sponsored MWR services and participate in NAFI sponsored activities.

Categories of records in the system:

Records include information on members, participants, patrons, and other authorized users to include name, address, phone number, social security number, organization, and other pertinent information; correspondence; membership applications; special activity applications; accounts receivable records; loan information; dishonored check listings; and investigatory reports involving abuse of facilities.

Authority for maintenance of the system:

National Security Agency Act of 1959 as amended, 50 U.S.C. 402 note (Pub. L. 86-36); 5 U.S.C. 301, Departmental Regulations; E.O. 9397, (SSN); DoD Directive 1015.2, Military Morale, Welfare, and Recreation (MWR); DoD Directive 1015.8, DoD Civilian Employee Morale, Welfare, and Recreation (MWR) Activities and Supporting Non-appropriated Fund Instrumentalities (NAFIs); DoD Directive 1015.14, Establishment, Management, and Control of Non-appropriated Fund Instrumentalities and Financial management of Supporting Resources; DoD Regulation 1015.8-R, DoD Civilian Employee Morale, Welfare, and Recreation (MWR) Activities and Supporting Non-appropriated Fund Instrumentalities (NAFIs) Regulation; and NSA/CSS Policy Number 4-2.

Purpose:

To develop MWR programs and NAFI to promote and provide a centrally managed, well-rounded MWR program to help ensure the mental and physical well being of its civilian and military personnel and to provide programs and resources through financial support from both appropriated and non-appropriated funds. Information will be used to maintain records necessary for the administration of MWR programs and NAFI.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD Blanket Routine Uses set forth at the beginning of the NSA/CSS's compilation of systems of records notices apply to this system.

Policies and practices for storing, retrieving, accessing, retaining, and disposing of records in the system:

Storage:

Records are maintained in paper files and on electronic media.

Retrievability:

By name, organization (or affiliation), Social Security Number, home address and phone number, subject matter, and form category.

Safeguards:

The NSA/CSS Fort Meade facility is secured by a series of guarded pedestrian gates and checkpoints. Access to the facility is limited to security cleared personnel and escorted visitors only. Within the facility itself, access to paper and computer printouts is controlled by limited-access facilities and lockable containers. Access to electronic mediums is controlled by computer password protection.

Access to information is limited to those individuals specifically authorized and granted access by NSA/CSS regulations. For records on the computer system, access is controlled by passwords and limited to authorized personnel only.

Retention and disposal:

Records are maintained for 6 years and 3 months, and then destroyed. Destruction is by pulping, burning, shredding, or erasure of magnetic media.

System manager and address:

Director of Policy, National Security Agency/Central Security Service, 9800 Savage Road, Suite 6248, Ft. George G. Meade, MD 20755-6248.

Notification procedure:

Individuals seeking to determine if records about themselves are contained in this record system should address written inquiries to the Director of Policy, National Security Agency/Central Security Service, 9800 Savage Road, Suite 6248, Ft. George G. Meade, MD 20755-6248.

Written inquires should include requester's full name, address, and Social Security Number.

Record access procedures:

Individuals seeking access to records about themselves contained in this record system should address written inquiries to the Director of Policy, National Security Agency/Central Security Service, 9800 Savage Road, Suite 6248, Ft. George G. Meade, MD 20755-6248.

Written inquires should include requester's full name, address, and Social Security Number.

Contesting record procedures:

The NSA/CSS rules for contesting contents and appealing initial determinations are published at 32 CFR part 322 or may be obtained by written request addressed to the Director of Policy, National Security Agency/Central Security Service, Ft. George G. Meade, MD 20755-6000.

Record source categories:

Individual patrons/users of a service, and activity records.

Exemptions claimed for the system:

None.

[FR Doc. 05-13203 Filed 7-5-05; 8:45 am]

BILLING CODE 5001-06-P